DEPARTMENT OF THE INTERIOR

Bureau of Land Management

[AZ-411-06-1150-BV]

Gila Box Riparian National Conservation Area Advisory Committee Meeting

AGENCY: Bureau of Land Management, Interior.

SUMMARY: The purpose of this notice is to announce an upcoming meeting of the Gila Box Riparian National Conservation Area Advisory Committee Meeting. The purpose of the Advisory Committee is to provide informed advice to the Safford Field Manager on management of public lands in the Gila Box Riparian National Conservation Area in southeastern Arizona.

The meeting will be held at the Bureau of Land Management Safford Field Office on October 18, 2006, commencing at 8 a.m. and ending at approximately 4 p.m. The meeting will serve as an orientation for the newly appointed representatives to the seven-member committee, and will include a field trip to the Gila Box. The entire meeting is open to the public, but those wishing to accompany the Committee on the field trip must provide their own transportation. The public can speak before the Committee at 9 a.m.

DATES: Wednesday, October 18, 2006.

FOR FURTHER INFORMATION CONTACT: Tom Schnell, Gila Box Manager,BLM Safford Field Office, 711 14th Avenue, Safford, AZ 85546. Telephone (928) 348-4420.

Dated: September 14, 2006.
Tom Schnell,
Acting Field Manager.

[FR Doc. 06-7982 Filed 9-21-06; 8:45 am]

BILLING CODE 4310-32-P